DEPARTMENT OF COMMERCE

National Oceanic and Atmospheric Administration

Agency Information Collection Activities; Submission to the Office of Management and Budget (OMB) for Review and Approval; Comment Request; Northeast Region Observer Providers Requirements

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on January 31, 2024, during a 60-day comment period. This notice allows for an additional 30 days for public comments.

Agency: National Oceanic & Atmospheric Administration (NOAA), Commerce.

Title: Northeast Region Observer Providers Requirements.

OMB Control Number: 0648-0546.

Form Number(s): None.

Type of Request: Regular submission (extension and revision of a currently approved information collection).

Number of Respondents: 626.

Average Hours per Response: Response time varies between 10 minutes to 10 hours depending on the information collection.

Total Annual Burden Hours: 6,475.

Needs and Uses: Under the Magnuson-Stevens Fishery Conservation and Management Act (Magnuson-Steven Act), the Secretary of Commerce (Secretary) has the responsibility for the conservation and management of marine fishery resources. Much of this responsibility has been delegated to the NOAA/National Marine Fisheries Service (NMFS). Under this stewardship role, the Secretary was given certain regulatory authorities to ensure the most beneficial uses of these resources. One of the regulatory steps taken to carry out the conservation and management objectives is to collect data from users of the resource.

Regulations at 50 CFR 648.11(g) require observer service providers to comply with specific requirements in order to operate as an approved provider in the Atlantic sea scallop (scallop) fishery. Observer service providers must comply with the following requirements: submit applications for approval as an observer service provider; formally request observer training by the Northeast Fisheries Observer Program (NEFOP); submit observer deployment reports and biological samples; give notification of whether a vessel must carry an observer within 24 hours of the vessel owner's notification of a prospective trip; maintain an updated contact list of all observers that includes the observer identification number; observer's name mailing address, email address, phone numbers, homeports or fisheries/trip types assigned, and whether or not the observer is “in service.” The regulations also require observer service providers submit any outreach materials, such as informational pamphlets, payment notification, and descriptions of observer duties as well as all contracts between the service provider and entities requiring observer services for review to NMFS/NEFOP. Observer service providers also have the option to respond to application denials, and submit a rebuttal in response to a pending removal from the list of approved observer providers. During the 60-day comment period for this renewal NMFS approved an additional observer service provider, increasing the number of providers from three to four. The additional burden hours necessary to accommodate the additional provider are reflected in the updated total burden hours.

Regulations at § 648.11(k)(2) require that limited access, limited access general category individual fishing quota, and Northern Gulf of Maine scallop vessels notify NMFS prior to the beginning of a scallop trip to facilitate the deployment of at-sea observers. Previously, vessels either called or emailed to notify NMFS of an upcoming scallop trip. NMFS has added a new method for notification called the Pre-Trip Notification System (PTNS). The integration of the scallop notification requirement into the PTNS helps standardize observer operations between fisheries and modernize reporting systems. The PTNS is a mobile-friendly website that is more sophisticated and flexible than the aging interactive voice response technology. The change to the PTNS does not affect determination of scallop coverage rates or the compensation analysis. There are no changes to the requirements vessels must abide by if selected to carry an observer, such as equal accommodations, a harassment-free environment, and other safety requirements. This change is not expected to impact the burden response time, but NOAA will continue to monitor use of this new tool, and will update the collection if it results in any burden changes at our next renewal. There will still be an email and a phone option for vessels to notify. These requirements allow NMFS/NEFOP to effectively administer the scallop observer program.

Affected Public: Business or other for-profit organization.

Frequency: Weekly

Respondent's Obligation: Required to Obtain Benefits.

Legal Authority: Magnuson-Steven Act

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0546.

Sheleen Dumas,
Department PRA Clearance Officer, Office of the Under Secretary for Economic Affairs, Commerce Department.

[FR Doc. 2024-09800 Filed 5-3-24; 8:45 am]

BILLING CODE 3510-22-P